Proclamation 7817 of September 17, 2004

Citizenship Day and Constitution Week, 2004

By the President of the United States of America

A Proclamation

Two hundred and seventeen years ago this week, delegates to the Constitutional Convention in Philadelphia signed one of the most enduring documents in history: the Constitution of the United States. Our Constitution is the foundation of our liberty and has guaranteed the rights of our people through a history of tremendous change and progress.

Today, we marvel at the wisdom of the Framers who toiled through a long summer of learned and contentious debates. Their work produced a document that upholds high ideals, while answering the most practical questions of governance. The charter they crafted—with its separate branches of Government, enumerated powers, checks and balances, and later the specific protections provided by our Bill of Rights—guides our Nation and inspires others around the world.

During Constitution Week, our Nation reflects on the significance of our Constitution and gives thanks for the blessings of liberty that this document helps to secure. We honor the men and women who have supported and defended it throughout our history, at times with their lives. On Citizenship Day, we reaffirm our commitment to freedom, to ensuring that our history endures, and to instilling in America's next generation the values that make our country great.

In remembrance of the signing of the Constitution and in recognition of the Americans who strive to uphold the duties and responsibilities of citizenship, the Congress, by joint resolution of February 29, 1952 (36 U.S.C. 106, as amended), designated September 17 as “Citizenship Day,” and by joint resolution of August 2, 1956 (36 U.S.C. 108, as amended), requested that the President proclaim the week beginning September 17 and ending September 23 of each year as “Constitution Week.”

NOW, THEREFORE, I, GEORGE W. BUSH, President of the United States of America, do hereby proclaim September 17, 2004, as Citizenship Day, and September 17 through September 23, 2004, as Constitution Week. I encourage Federal, State, and local officials, as well as leaders of civic, social, and educational organizations, to conduct ceremonies and programs that celebrate our Constitution and reaffirm our rights and obligations as citizens of our great Nation.

IN WITNESS WHEREOF, I have hereunto set my hand this seventeenth day of September, in the year of our Lord two thousand four, and of the Independence of the United States of America the two hundred and twenty-ninth.

B

[FR Doc. 04-21354

Filed 9-20-04; 11:00 am]

Billing code 3195-01-P